OFFICE OF THE UNITED STATES TRADE REPRESENTATIVE

[Docket Number USTR-2018-0035]

Request for Comments on Negotiating Objectives for a U.S.-European Union Trade Agreement

AGENCY: Office of the United States Trade Representative.

ACTION: Request for comments and notice of public hearing.

SUMMARY: On October 16, 2018, the United States Trade Representative notified Congress of the Administration's intention to enter into negotiations on a trade agreement with the European Union (EU). The Office of the United States Trade Representative (USTR) is seeking public comments on a proposed U.S.-EU trade agreement, including U.S. interests and priorities, in order to develop U.S. negotiating positions. You can provide comments in writing and orally at a public hearing. The Administration's aim in negotiations with the EU is to address both tariff and non-tariff barriers and to achieve fairer, more balanced trade.

DATES:

December 10, 2018: Deadline for the submission of written comments and for written notification of your intent to testify, as well as a summary of your testimony at the public hearing.

December 14, 2018: The Trade Policy Staff Committee (TPSC) will hold a public hearing beginning at 9:30 a.m., at the Auditorium of the Herbert C. Hoover Building, U.S. Department of Commerce, 1401 Constitution Avenue NW, Washington, DC 20230.

ADDRESSES: You should submit notifications of intent to testify and written comments through the Federal eRulemaking Portal: https://www.regulations.gov. Follow the instructions for submitting comments in parts 2 and 3 below. For alternatives to on-line submissions, please contact Yvonne Jamison at (202) 395-3475.

FOR FURTHER INFORMATION CONTACT: For procedural questions concerning written comments, please contact Yvonne Jamison at (202) 395-3475. Direct all other questions to David Weiner, Deputy Assistant U.S. Trade Representative for Europe, at (202) 395-9679.

SUPPLEMENTARY INFORMATION:

1. Background

The decision to launch negotiations for a U.S.-EU trade agreement is an important step toward achieving fairer, more balanced trade with the EU and follows the July 25, 2018 meeting between President Trump and European Commission President Jean-Claude Juncker. In the joint statement issued following their July 25th meeting, President Trump and President Juncker affirmed the intention of the United States and the EU to address both tariff and non-tariff barriers in their trading relationship.

On October 16, 2018, following consultations with relevant Congressional committees, the United States Trade Representative informed Congress that the President intends to commence negotiations with the EU for a U.S.-EU Trade Agreement.

2. Public Comment and Hearing

The TPSC invites interested parties to submit comments and/or oral testimony to assist USTR as it develops negotiating objectives and positions for the agreement, including with regard to objectives identified in section 102 of the Bipartisan Congressional Trade Priorities and Accountability Act of 2015 (19 U.S.C. 4201). In particular, the TPSC invites interested parties to comment on issues including, but not limited to, the following:

a. General and product-specific negotiating objectives for the proposed agreement.

b. Relevant barriers to trade in goods and services between the U.S. and the EU that should be addressed in the negotiations.

c. Economic costs and benefits to U.S. producers and consumers of removal or reduction of tariffs and removal or reduction of non-tariff barriers on articles traded with the EU.

d. Treatment of specific goods (described by HTSUS numbers) under the proposed agreement, including comments on:

i. Product-specific import or export interests or barriers.

ii. Experience with particular measures that should be addressed in the negotiations.

iii. Ways to address export priorities and import sensitivities in the context of the proposed agreement.

e. Customs and trade facilitation issues that should be addressed in the negotiations.

f. Sanitary and phytosanitary measures and technical barriers to trade that should be addressed in the negotiations.

g. Other measures or practices that undermine fair market opportunities for U.S. businesses, workers, farmers, and ranchers that should be addressed in the negotiations.

USTR must receive written comments no later than Monday, December 10, 2018.

USTR requests that small businesses, generally defined by the Small Business Administration as firms with fewer than 500 employees, or organizations representing small business members, which submit comments to self-identify as such, so that we may be aware of issues of particular interest to small businesses.

The TPSC will hold a hearing on December 14, 2018, in the Auditorium of the Herbert C. Hoover Building, U.S. Department of Commerce, 1401 Constitution Avenue NW, Washington, DC 20230. If necessary, the hearing will continue on the next business day. Persons wishing to testify at the hearing must provide written notification of their intention by December 10, 2018. The notification of intent to testify must be made in the `type comment' field under docket number USTR-2018-0035 on the www.regulations.gov website and should include the name, address, and telephone number of the person presenting the testimony. You should attach a summary of the testimony by using the `upload file' field. The file name also should include who will be presenting the testimony. The TPSC limits remarks at the hearing to no more than five minutes to allow for possible questions.

3. Requirements for Submissions

In order to ensure the timely receipt and consideration of comments, USTR strongly encourages commenters to make on-line submissions, using the www.regulations.gov website. Persons submitting a notification of intent to testify and/or written comments must do so in English and must identify (on the first page of the submission) the “U.S.-EU Trade Agreement.”

To submit comments via www.regulations.gov, enter docket number USTR-2018-0035 on the home page and click `search.' The site will provide a search-results page listing all documents associated with this docket. Find a reference to this notice and click on the link entitled `comment now!' For further information on using the www.regulations.gov website, please consult the resources provided on the website by clicking on `How to Use This Site' on the left side of the home page.

The www.regulations.gov website allows users to provide comments by filling in a `type comment' field, or by attaching a document using an `upload file' field. USTR prefers that you provide comments in an attached document. If a document is attached, it is sufficient to type `see attached' in the `type comment' field. USTR prefers submissions in Microsoft Word (.doc) or Adobe Acrobat (.pdf). If the submission is in an application other than those two, please indicate the name of the application in the `type comment' field.

For any comments submitted electronically containing business confidential information, the file name of the business confidential version should begin with the characters `BC.' Any page containing business confidential information must be clearly marked BUSINESS CONFIDENTIAL on the top of that page. Filers of submissions containing business confidential information also must submit a public version of their comments. The file name of the public version should begin with the character `P.' The `BC' and `P' should be followed by the name of the person or entity submitting the comments or reply comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov. You must make any alternative arrangements before transmitting a comment and in advance of the applicable deadline with Yvonne Jamison at (202) 395-3475.

USTR will place comments in the docket for public inspection, except business confidential information. General information concerning USTR is available at www.ustr.gov.

Edward Gresser,
Chair of the Trade Policy Staff Committee, Office of the United States Trade Representative.

[FR Doc. 2018-24979 Filed 11-14-18; 8:45 am]

BILLING CODE 3290-F9-P